NUCLEAR REGULATORY COMMISSION

[NRC-2009-0137]

Draft Regulatory Guide: Issuance, Availability

AGENCY: Nuclear Regulatory Commission.

ACTION: Notice of Issuance and Availability of Draft Regulatory Guide, DG-1218.

FOR FURTHER INFORMATION CONTACT: Steven A. Laur, U.S. Nuclear Regulatory Commission, Washington, DC 20555-0001, telephone: (301) 415-2889 or e-mail to Steven.Laur@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Risk-Informed, Performance-Based Fire Protection for Existing Light-Water Nuclear Power Plants,” is temporarily identified by its task number, DG-1218, which should be mentioned in all related correspondence. DG-1218 is the proposed Revision 1 of Regulatory Guide 1.205.

DG-1218 provides guidance for use in complying with the requirements that the NRC has promulgated for risk-informed, performance-based fire protection programs (FPPs) that comply with Title 10, section 50.48(c), of the Code of Federal Regulations (10 CFR 50.48(c)) and the referenced 2001 Edition of the National Fire Protection Association (NFPA) standard, NFPA 805, “Performance-Based Standard for Fire Protection for Light-Water Reactor Electric Generating Plants.”

In accordance with 10 CFR 50.48(a), each operating nuclear power plant must have an FPP that satisfies General Design Criterion (GDC) 3, “Fire Protection,” of Appendix A, “General Design Criteria for Nuclear Power Plants,” to 10 CFR part 50, “Domestic Licensing of Production and Utilization Facilities.” In addition, plants that were licensed to operate before January 1, 1979, must meet the requirements of Appendix R, “Fire Protection Program for Nuclear Power Facilities Operating Prior to January 1, 1979,” to 10 CFR part 50, except to the extent provided for in 10 CFR 50.48(b). Plants licensed to operate after January 1, 1979, are required to comply with 10 CFR 50.48(a), as well as any plant-specific fire protection license conditions and technical specifications.

II. Further Information

The NRC staff is soliciting comments on DG-1218. Comments may be accompanied by relevant information or supporting data and should mention DG-1218 in the subject line. Comments submitted in writing or in electronic form will be made available to the public in their entirety through the NRC's Agencywide Documents Access and Management System (ADAMS).

Personal information will not be removed from your comments. You may submit comments by any of the following methods:

1. Mail comments to: Chief, Rulemaking and Directives Branch, MS TWB-05-B01M, Office of Administration, U.S. Nuclear Regulatory Commission, Washington, DC 20555-0001.

2. Fax comments to: Chief, Rulemaking and Directives Branch, Office of Administration, U.S. Nuclear Regulatory Commission at (301) 492-3446.

Requests for technical information about DG-1218 may be directed to the NRC contact, Steven Laur at (301) 415-2889 or e-mail to Steven.Laur@nrc.gov.

Comments would be most helpful if received by May 22, 2009. Comments received after that date will be considered if it is practical to do so, but the NRC is able to ensure consideration only for comments received on or before this date. Although a time limit is given, comments and suggestions in connection with items for inclusion in guides currently being developed or improvements in all published guides are encouraged at any time.

Electronic copies of DG-1218 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML090420462.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 16th day of March, 2009.
For the Nuclear Regulatory Commission.
Andrea D. Valentin,
Chief, Regulatory Guide Development Branch, Division of Engineering, Office of Nuclear Regulatory Research.

[FR Doc. E9-6553 Filed 3-24-09; 8:45 am]

BILLING CODE 7590-01-P